DEPARTMENT OF COMMERCE

National Oceanic and Atmospheric Administration

50 CFR Part 300

[Docket No. 100119028-0029-01]

RIN 0648-AY31

Pacific Halibut Fisheries; Catch Sharing Plan

AGENCY: National Marine Fisheries Service (NMFS), National Oceanic and Atmospheric Administration (NOAA), Commerce.

ACTION: Proposed rule.

SUMMARY: NMFS proposes to approve and implement changes to the Pacific Halibut Catch Sharing Plan (Plan) for the International Pacific Halibut Commission's (IPHC or Commission) regulatory Area 2A off Washington, Oregon, and California (Area 2A). NMFS proposes to implement the portions of the Plan and management measures that are not implemented through the IPHC. This includes tribal regulations and the sport fishery allocations and management measures for Area 2A. These actions are intended to enhance the conservation of Pacific halibut, to provide greater angler opportunity where available, and to protect overfished groundfish species from being incidentally caught in the halibut fisheries.

DATES: Comments on the proposed changes to the Plan and on the proposed domestic Area 2A halibut management measures must be received no later than 5 p.m., local time on February 19, 2010.

ADDRESSES: Copies of the Plan and Regulatory Impact Review (RIR)/Initial Regulatory Flexibility Analysis (IRFA) are available from Barry Thom, Acting Regional Administrator, Northwest Region, NMFS, 7600 Sand Point Way NE, Seattle, WA 98115-0070. Electronic copies of the Plan, including proposed changes for 2010, and of the draft RIR/IRFA are also available at the NMFS Northwest Region website: http://www.nwr.noaa.gov, click on “Groundfish & Halibut” and then click on “Pacific Halibut”.

You may submit comments, identified by RIN 0648-AY31, by any one of the following methods:

• Electronic Submissions: Submit all electronic public comments via the Federal eRulemaking Portal http://www.regulations.gov

• Fax: 206-526-6736, Attn: Sarah Williams.

• Mail: Barry Thom, Acting Administrator, Northwest Region, NMFS, Attn: Sarah Williams, 7600 Sand Point Way NE, Seattle, WA 98115-0070.

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/a in the required fields if you wish to remain anonymous. Attachments to electronic comments will be accepted in Microsoft Word, Excel, WordPerfect, or Adobe PDF file formats only.

FOR FURTHER INFORMATION CONTACT: Sarah Williams, 7600 Sand Point Way NE, Seattle, WA, 98115. By phone at 206-526-4646 or fax at 206-526-6736.

SUPPLEMENTARY INFORMATION: The Northern Pacific Halibut Act (Halibut Act) of 1982, at 16 U.S.C. 773c, gives the Secretary of Commerce (Secretary) general responsibility for implementing the provisions of the Halibut Convention between the United States and Canada (Halibut Convention). It requires the Secretary to adopt regulations as may be necessary to carry out the purposes and objectives of the Halibut Convention and the Halibut Act. Section 773c of the Halibut Act authorizes the regional fishery management councils to develop regulations governing the Pacific halibut catch in their corresponding U.S. Convention waters that are in addition to, but not in conflict with, regulations of the IPHC. Each year between 1988 and 1995, the Pacific Fishery Management Council (Pacific Council) developed a catch sharing plan in accordance with the Halibut Act to allocate the total allowable catch (TAC) of Pacific halibut between treaty Indian and non-treaty harvesters and among non-treaty commercial and sport fisheries in Area 2A.

In 1995, NMFS implemented the Pacific Council-recommended long-term Plan (60 FR 14651, March 20, 1995). In each of the intervening years between 1995 and the present, minor revisions to the Plan have been made to adjust for the changing needs of the fisheries. The Plan allocates 35 percent of the Area 2A TAC to Washington treaty Indian tribes in Subarea 2A-1 and 65 percent to non-tribal fisheries in Area 2A.

The allocation to non-tribal fisheries is divided into three shares, with the Washington sport fishery (north of the Columbia River) receiving 36.6 percent, the Oregon/California sport fishery receiving 31.7 percent, and the commercial fishery receiving 31.7 percent. The commercial fishery is further divided into a directed commercial fishery that is allocated 85 percent of the commercial allocation and an incidental catch in the salmon troll fishery that is allocated 15 percent of the commercial allocation. The directed commercial fishery in Area 2A is confined to southern Washington (south of 46° 53.30' N. lat.), Oregon, and California. North of 46° 53.30' N. lat. (Pt. Chehalis), the Plan allows for incidental halibut retention in the primary limited entry longline sablefish fishery when the overall Area 2A TAC is above 900,000 lb (408.2 mt). The Plan also divides the sport fisheries into six geographic subareas, each with separate allocations, seasons, and bag limits.

The Area 2A TAC will be set by the IPHC at its annual meeting on January 26-29, 2010, in Seattle, WA. Following the annual meeting the IPHC publishes the final TAC on their website and produces a news release. Through this proposed rule NMFS requests public comments on the Pacific Council's recommended modifications to the Plan and the proposed domestic fishing regulations by [insert date of end of comment period]. This allows the public the opportunity to consider the final Area 2A TAC before submitting comments on the proposed rule. The States of Washington and Oregon will conduct public workshops shortly after the IPHC meeting to obtain input on the sport season dates. After the final Area 2A TAC is known and after NMFS reviews public comments and comments from the states, NMFS will issue a final rule for Areas 2A, 2C, 3A, 3B, 4A, 4B, 4C, 4D, and 4E, Pacific halibut fisheries concurrent with its publication of the IPHC regulations for the 2010 Pacific halibut fisheries. A 15 day public comment period is necessary with this proposed rule to balance two purposes, first to provide the public with enough time to comment on the proposed rule after the final TAC is decided by the IPHC, and second to incorporate the final U.S. domestic regulations into the IPHC regulations in order to have the combined regulations in place as close to March 1 as possible. The regulations need to be in effect in early March because most commercial fishing seasons started on March 21 last year. The IPHC may change that date for 2010, so this information needs to be published soon after the IPHC meeting to adjust the starting date and notify the public of that date so the industry can plan for the season.

Combining the IPHC regulations with the domestic regulations for Washington, Oregon, California and Alaska is in the best interest of the public because this publishes all the halibut regulations in one Federal Register notice. These annual halibut regulations are not codified in the CFR, so this notice is where the fishermen get their information. This reduces confusion for fishery participants because then they only have to reference one document for all Pacific halibut regulations on the West Coast and in Alaska. Combining these regulations also eliminates errors that may occur from trying to separate the halibut regulations into two different rules. The separation could be confusing to the public because many of the IPHC regulations apply to all West Coast and Alaska Pacific halibut fisheries in the U.S. therefore requiring many U.S. fishermen to refer to two separate Federal Register notices for one fishery.

This proposed rule would also update the codified boundaries of the non-trawl Rockfish Conservation Area (RCA) at 50 CFR 300.63, to make them consistent with the boundaries in groundfish regulations at 50 CFR 660 Table 4. The RCAs for both fisheries serve the same purpose, protection of overfished groundfish, and so the boundaries are meant to be the same. Most commercial halibut fishermen also participate in the groundfish fishery, so they are familiar with these boundaries. Non-treaty commercial vessels operating in the directed commercial fishery for halibut in Area 2A are required to fish outside of the non-trawl RCA, which extends along the coast. The eastern and western boundaries of the RCA vary along the coast. Because the boundaries of the RCA are intended to be the same for both groundfish and halibut fisheries this rule would update the coordinates in the halibut regulations for some depth contour lines and RCA boundaries, to make them consistent with the current groundfish regulations and RCA boundaries. Between the U.S./Canada border and 46° 16' N. lat., the eastern boundary of the RCA is the shoreline. Between 46° 16' N. lat. and 43° 00' N. lat, the RCA is defined along an eastern boundary by a line approximating the 30 fm (55-m) depth contour. Coordinates for the 30 fm (55 m) boundary are listed at 50 CFR 300.63 (f), this proposed rule would update these coordinates so they are consistent with current groundfish regulations at 50 CFR 660.391(e). Between 43° 00' N. lat and 42° 00' N. lat., the RCA is defined along an eastern boundary line approximating the 20 fm (37-m) depth contour. Coordinates for the 20 fm (37 m) boundary line are listed at 50 CFR 660.391(b), no 20 fm (37m) boundary line is currently specified in halibut regulations. Therefore this proposed rule would insert a cross-reference to 50 CFR 660.391(b) into 50 CFR 300.63(e) which defines the boundary line approximating the 20 fm (37 m) depth contour between the U.S. Border with Canada and 42° 00' N. lat. Between 42° 00' N. lat. and 40° 10' N. lat., the RCA is defined along an eastern boundary by the 20 fm (37 m) depth contour. Currently in regulations there is no boundary line defined for the 20 fm (37 m) line between these coordinates. Between the U.S./Canada border and 40° 10' N. lat., the RCA is defined along a western boundary approximating the 100 fm (183 m) depth contour. Coordinates for the 100 fm (183 m) boundary are listed at 50 CFR 300.63 (g). The proposed rule would update these coordinates so they are consistent with current groundfish regulations at 50 CFR 660.393(a).

Incidental Halibut Retention in the Primary Sablefish Fishery North of Pt. Chehalis, Washington

Preliminary estimates of the Area 2A TAC are lower than the 2009 TAC. The preliminary IPHC TAC recommendation for area 2A is less than 900,000 lb (408.2 mt), which results in a Washington sport allocation that is less than 214,110 lb (97.1 mt). According to the catch sharing plan, incidental halibut retention would not be allowed in the primary directed sablefish fishery north of Point Chehalis, WA, in 2010 under the current preliminary IPHC TAC recommendation. While the preliminary TAC recommendation for area 2A may change following the IPHC annual meeting, it is not anticipated that the TAC will change enough to allow for incidental halibut retention in the primary sablefish fishery.

Pacific Council Recommended Changes to the Plan and Domestic Fishing Regulations

Each year, the states (Washington Department of Fish and Wildlife (WDFW) and Oregon Department of Fish and Wildlife (ODFW)) and the tribes with treaty fishing rights for halibut consider whether changes to the Plan are needed or desired by their fishery participants. Fishery managers from the states hold public meetings before both the September and November Pacific Council meetings to get public input on revisions to the Plan. At the September 2009 Pacific Council meeting, WDFW and ODFW recommended several changes to the Plan. The tribes did not submit any proposals for revising the Plan in 2010. Following the meeting, the states again reviewed their proposals with the public and drafted their recommended revisions for review and recommendation by the Pacific Council.

At its October 31-November 5, 2009, meeting in Costa Mesa, CA, the Pacific Council considered the results of state-sponsored workshops on the proposed changes to the Plan and public comments, and made final recommendations for modifications to the Plan and implementing regulations as follows:

1. Specify that the Washington South Coast Subarea primary season will be open Sunday and Tuesday through the third week in May, open on Sunday only for the fourth week in May and return to Sunday and Tuesday after the fourth week in May. Under the status-quo this fishery would be open on Sunday and Tuesday for the first two weeks of the fishery but would have then continued on Sundays only for the remainder of the season. The goal of this change to the Catch Sharing Plan is to provide more opportunity to participate in this fishery and to balance weekday and weekend fishing, having the fishery open on Sunday only for the fourth week in May allows managers to tally the catch to assess the possibility of later openings;

2. Specify that the Washington South Coast subarea nearshore area will be open seven days per week. Under the status-quo, this fishery was open three days per week during the primary season in addition to the days that the primary fishery was open, and was open four days per week after the primary season was closed. The goal of this change is to allow better access to the nearshore quota;

3. Revise the northern and western boundaries of the Washington nearshore area. This will align the nearshore area with the boundary line approximating the 30-fm depth contour as specified in Federal regulations at 50 CFR 660.391. Under the status-quo a small section of the Washington nearshore area was outside of the 30-fm line. The goal of this change is to promote ease of compliance and enforcement. According to the fishermen in this area there are no “targetable” areas for halibut within the area that will be added to the nearshore area as a result of this change, so impacts to groundfish and halibut are not expected to increase;

4. Specify that lingcod retention is allowed in the Washington South Coast subarea seaward of the 30-fm line and on days when the primary fishery is open. The State of Washington will prohibit further fishing seaward of the 30 fm line once the vessel reaches its daily bag limit of halibut. Under the status quo, Pacific Coast Groundfish regulations prohibit fishing for groundfish, including lingcod, in the recreational fishery seaward of the 30-fm line at certain times. The goal of this change is to provide lingcod retention opportunity for anglers who have previously had to discard lingcod while fishing seaward of the 30-fm line and who would then move shoreward to catch smaller lingcod or no lingcod;

5. Change the open days in the Oregon Central Coast subarea all depth fishery from three days per week to two days per week, Friday and Saturday. Under the status-quo this fishery was open Friday through Sunday. The goal of this change is to extend the season in this area, while not impacting the quota of the inside 40 fm fishery as happened in 2009.

Proposed Changes to the Plan

NMFS is proposing to approve the Pacific Council recommendations and to implement the above-described changes by making the following changes to the current Plan, which can be found at http://www.nwr.noaa.gov/Groundfish-Halibut/Pacific-Halibut/Index.cfm :

In section (f) of the Plan, Sport Fisheries, revise section (iii), Washington south coast subarea, to read as follows: This sport fishery is allocated 12.3 percent of the first 130,845 lb (59.4 mt) allocated to the Washington sport fishery, and 32 percent of the Washington sport allocation between 130,845 lb (59.4 mt) and 224,110 lb (101.7 mt) (except as provided in section (e)(3) of this Plan. This subarea is defined as waters south of the Queets River (47° 31.70' N. lat.) and north of Leadbetter Point (46° 38.17' N. lat.). The structuring objective for this subarea is to maximize the season length, while maintaining a quality fishing experience. The south coast subarea quota will be allocated as follows: 10% or 2,000 pounds, whichever is less, will be set aside for the nearshore fishery with the remaining amount allocated to the primary fishery. During days open to the primary fishery and seaward of the 30-fm line lingcod may be taken, retained and possessed, when allowed by groundfish regulations. The fishery will open on the first Sunday in May. The primary fishery will be open two days per week, Sunday and Tuesday, in all areas, except where prohibited. During the fourth week in May, the primary fishery will be open on Sundays only. Beginning the following week, the fishery would continue two days per week, Sunday and Tuesday, until the quota for the primary fishery season is reached or September 30, whichever is earlier. If there is insufficient quota remaining to reopen the primary fishery for another fishing day, the remaining primary fishery quota will be added to the nearshore quota. The nearshore fishery takes place, in the area from 47 31.70' N. lat. south to 46° 58.00' N. lat. and east of a boundary line approximating the 30 fathom depth contour as defined by the following coordinates:

(1) 47° 31.70 N. lat, 124° 37.03 W. long;

(2) 47° 25.67 N. lat, 124° 34.79 W. long;

(3) 47° 12.82 N. lat, 124° 29.12 W. long;

(4) 46° 58.00 N. lat, 124° 24.24 W. long.

During the primary season the nearshore fishery will be open seven days per week. Subsequent to the closure of the primary fishery, the nearshore fishery will continue seven days per week until the remaining quota is projected to be taken. If the fishery is closed prior to September 30, and there is insufficient quota remaining to reopen the nearshore areas for another fishing day, then any remaining quota may be transferred inseason to another Washington coastal subarea by NMFS via an update to the recreational halibut hotline. The daily bag limit is one halibut per person, with no size limit.

Recreational fishing for groundfish and halibut is prohibited within two YRCA's off Washington's southern coast. The South Coast Recreational YRCA and the Westport Offshore YRCA are defined by straight lines connecting latitude and longitude coordinates. Coordinates for these Recreational YRCAs are specified in groundfish regulations at 50 CFR 660.390 and will be specifically defined annually in federal halibut regulations published in the Federal Register.

In section (f) of the Plan, Sport Fisheries, (v) Oregon central coast subarea, C, revise this section to read as follows: The last season is an all-depth fishery that begins on the first Friday in August and is allocated 23 percent of the subarea quota. The fishery will be structured to be open every other week on Friday and Saturday except that week(s) may be skipped to avoid adverse tidal conditions. The fishery will continue until there is insufficient quota remaining to reopen for another fishing day or October 31, whichever is earlier. The potential open Fridays and Saturdays will be identified preseason. If after the first scheduled open period, the remaining Cape Falcon to Humbug Mountain entire season quota (combined all-depth and inside 40-fathom (73 m) quotas) is 60,000 lb (27.2 mt) or more, the fishery will re-open on every Friday and Saturday (versus every other Friday and Saturday), if determined to be appropriate through joint consultation between IPHC, NMFS, and ODFW. The inseason action will be announced by NMFS via an update to the recreational halibut hotline. If after the Labor Day weekend, the remaining Cape Falcon to Humbug Mountain entire season quota (combined all-depth and inside 40-fathom (73 m) quotas) is 30,000 lb (13.6 mt) or more and the fishery is not already open every Friday and Saturday, the fishery will re-open on every Friday and Saturday (versus every other Friday and Saturday), if determined to be appropriate through joint consultation between IPHC, NMFS, and ODFW. After the Labor Day weekend, the IPHC, NMFS, and ODFW will consult to determine whether increasing the Oregon Central Coast bag limit to two fish is warranted with the intent that the quota for the subarea is taken by September 30. If the quota is not taken by September 30, the season will remain open, maintaining the bag limit in effect at that time, through October 31 or quota attainment, whichever is earlier. The inseason action will be announced by NMFS via an update to the recreational halibut hotline.

Proposed 2010 Sport Fishery Management Measures

NMFS is proposing sport fishery management measures that are necessary to implement the Plan in 2010. The annual domestic management measures are published each year through a final rule. For the 2009 fishing season the final rule was published on March 19, 2009, (74 FR 11681) and the following section numbers refer to sections within that final rule. The final 2010 TAC for Area 2A will be determined by the IPHC at its annual meeting on January 26-29, 2010, in Seattle, WA. Because the final 2010 TAC has not yet been determined, these proposed sport fishery management measures use the IPHC staff's preliminary 2010 Area 2A TAC recommendation of 760,000 lb (344.7 mt) which is lower than the 2009 TAC of 950,000 lb (430.9 mt). Where season dates are not indicated, those dates will be provided in the final rule, following determination of the 2010 TAC and consultation with the states and the public. In Section 8 of the annual domestic management measures, “Fishing Periods”, paragraph (2) is proposed to read as follows:

(2) Each fishing period in the Area 2A directed fishery shall begin at 0800 hours and terminate at 1800 hours local time on (insert season dates) unless the Commission specifies otherwise.

(3) In Area 2A incidental catch of halibut in the primary sablefish fishery is not authorized in 2010.

(4) * * *

(5) * * *

(6) * * *

In section 26 of the annual domestic management measures, “Sport Fishing for Halibut,” paragraph 1(a)-(b) will be updated with 2010 total allowable catch limits in the final rule. In section 26 of the annual domestic management measures, “Sport Fishing for Halibut” paragraph (8) is proposed to read as follows:

(8) * * *

(a) The area in Puget Sound and the U.S. waters in the Strait of Juan de Fuca, east of a line extending from 48°17.30' N. lat., 124°23.70' W. long. north to 48°24.10' N. lat., 124°23.70' W. long., is not managed in-season relative to its quota. This area is managed by setting a season that is projected to result in a catch of 46,735 lb (21.1 mt).

(i) The fishing season in eastern Puget Sound (east of 123°49.50' W. long., Low Point) is (insert season dates), and the fishing season in western Puget Sound (west of 123°49.50' W. long., Low Point) is (insert season dates), 5 days a week (Thursday through Monday).

(ii) The daily bag limit is one halibut of any size per day per person.

(b) The quota for landings into ports in the area off the north Washington coast, west of the line described in paragraph (2)(a) of section 26 and north of the Queets River (47°31.70' N. lat.), is 97, 372 lb (44.1 mt).

(i) The fishing seasons are:

(A) Commencing on May 13 and continuing 2 days a week (Thursday and Saturday) until 97,372 lb (44.1 mt) are estimated to have been taken and the season is closed by the Commission or until May 29.

(B) If sufficient quota remains the fishery will reopen on June 3 in the entire north coast subarea, continuing 2 days per week (Thursday and Saturday) until there is not sufficient quota for another full day of fishing and the area is closed by the Commission. When there is insufficient quota remaining to reopen the entire north coast subarea for another day, then the nearshore areas described below will reopen for 2 days per week (Thursday and Saturday), until the overall quota of 97,372 lb (44.1 mt) is estimated to have been taken and the area is closed by the Commission, or until September 30, whichever is earlier. After May 29, any fishery opening will be announced on the NMFS hotline at 800-662-9825. No halibut fishing will be allowed after May 29 unless the date is announced on the NMFS hotline. The nearshore areas for Washington's North Coast fishery are defined as follows:

(1) WDFW Marine Catch Area 4B, which is all waters west of the Sekiu River mouth, as defined by a line extending from 48°17.30' N. lat., 124°23.70' W. long. north to 48°24.10' N. lat., 124°23.70' W. long., to the Bonilla-Tatoosh line, as defined by a line connecting the light on Tatoosh Island, WA, with the light on Bonilla Point on Vancouver Island, British Columbia (at 48°35.73' N. lat., 124°43.00' W. long.) south of the International Boundary between the U.S. and Canada (at 48°29.62' N. lat., 124°43.55' W. long.), and north of the point where that line intersects with the boundary of the U.S. territorial sea.

(2) Shoreward of the recreational halibut 30-fm boundary line, a modified line approximating the 30-fm depth contour from the Bonilla-Tatoosh line south to the Queets River. The recreational halibut 30-fm boundary line is defined by straight lines connecting all of the following points in the order stated:

(1) 48°24.79' N. lat., 124°44.07' W. long.;

(2) 48°24.80' N. lat., 124°44.74' W. long.;

(3) 48°23.94' N. lat., 124°44.70' W. long.;

(4) 48°23.51' N. lat., 124°45.01' W. long.;

(5) 48°22.59' N. lat., 124°44.97' W. long.;

(6) 48°21.75' N. lat., 124°45.26' W. long.;

(7) 48°21.23' N. lat., 124°47.78' W. long.;

(8) 48°20.32' N. lat., 124°49.53' W. long.;

(9) 48°16.72' N. lat., 124°51.58' W. long.;

(10) 48°10.00' N. lat., 124°52.58' W. long.;

(11) 48°05.63' N. lat., 124°52.91' W. long.;

(12) 47°53.37' N. lat., 124°47.37' W. long.;

(13) 47°40.28' N. lat., 124°40.07' W. long.; and

(14) 47°31.70' N. lat., 124°37.03' W. long.

(ii) The daily bag limit is one halibut of any size per day per person.

(iii) Recreational fishing for groundfish and halibut is prohibited within the North Coast Recreational Yelloweye Rockfish Conservation Area (YRCA). It is unlawful for recreational fishing vessels to take and retain, possess, or land halibut taken with recreational gear within the North Coast Recreational YRCA. A vessel fishing in the North Coast Recreational YRCA may not be in possession of any halibut. Recreational vessels may transit through the North Coast Recreational YRCA with or without halibut on board. The North Coast Recreational YRCA is a C-shaped area off the northern Washington coast intended to protect yelloweye rockfish. The North Coast Recreational YRCA is defined by straight lines connecting all of the following points in the order stated:

(1) 48°18.00' N. lat.; 125°18.00' W. long.;

(2) 48°18.00' N. lat.; 124°59.00' W. long.;

(3) 48°11.00' N. lat.; 124°59.00' W. long.;

(4) 48°11.00' N. lat.; 125°11.00' W. long.;

(5) 48°04.00' N. lat.; 125°11.00' W. long.;

(6) 48°04.00' N. lat.; 124°59.00' W. long.;

(7) 48°00.00' N. lat.; 124°59.00' W. long.;

(8) 48°00.00' N. lat.; 125°18.00' W. long.;

and connecting back to 48°18.00' N. lat.; 125°18.00' W. long.

(c) The quota for landings into ports in the area between the Queets River, WA (47°31.70' N. lat.) and Leadbetter Point, WA (46°38.17' N. lat.), is 32, 081 lb (14.5 mt).

(i) This subarea is divided between the all-waters fishery (the Washington South coast primary fishery), and the incidental nearshore fishery in the area from 47 31.70' N. lat. south to 46 58.00' N. lat. and east of a boundary line approximating the 30 fm depth contour. This area is defined by straight lines connecting all of the following points in the order stated as described by the following coordinates (the Washington South coast, northern nearshore area):

(1) 47° 31.70 N. lat, 124° 37.03 W. long;

(2) 47° 25.67 N. lat, 124° 34.79 W. long;

(3) 47° 12.82 N. lat, 124° 29.12 W. long;

(4) 46° 58.00 N. lat, 124° 24.24 W. long.

The south coast subarea quota will be allocated as follows: 30,081 lb (13.6 mt) for the primary fishery and 2,000 lb (0.9 mt) for the nearshore fishery. The primary fishery commences on May 2 and continues 2 days a week (Sunday and Tuesday) until May 18. Beginning on May 23 the primary fishery will be open 1 day per week (Sunday). Beginning on May 30 the primary fishery will be open 2 days per week (Sunday and Tuesday) until the quota for the south coast subarea primary fishery is taken and the season is closed by the Commission, or until September 30, whichever is earlier. The fishing season in the nearshore area commences on May 2 and continues seven days per week. Subsequent to closure of the primary fishery the nearshore fishery is open seven days per week, until 32,081 lb (14.5 mt) is projected to be taken by the two fisheries combined and the fishery is closed by the Commission or September 30, whichever is earlier. If the fishery is closed prior to September 30, and there is insufficient quota remaining to reopen the northern nearshore area for another fishing day, then any remaining quota may be transferred in-season to another Washington coastal subarea by NMFS via an update to the recreational halibut hotline.

(ii) The daily bag limit is one halibut of any size per day per person.

(iii) Seaward of the boundary line approximating the 30-fm depth contour and during days open to the primary fishery, lingcod may be may be taken, retained and possessed when allowed by groundfish regulations at 50 CFR 660.384.

(iv) Recreational fishing for groundfish and halibut is prohibited within the South Coast Recreational YRCA and Westport Offshore YRCA. It is unlawful for recreational fishing vessels to take and retain, possess, or land halibut taken with recreational gear within the South Coast Recreational YRCA and Westport Offshore YRCA. A vessel fishing in the South Coast Recreational YRCA and/or Westport Offshore YRCA may not be in possession of any halibut. Recreational vessels may transit through the South Coast Recreational YRCA and Westport Offshore YRCA with or without halibut on board. The South Coast Recreational YRCA and Westport Offshore YRCA are areas off the southern Washington coast intended to protect yelloweye rockfish. The South Coast Recreational YRCA is defined by straight lines connecting the following specific latitude and longitude coordinates in the order listed:

(1) 46°58.00' N. lat., 124°48.00' W. long.;

(2) 46°55.00' N. lat., 124°48.00' W. long.;

(3) 46°55.00' N. lat., 124°49.00' W. long.;

(4) 46°58.00' N. lat., 124°49.00' W. long.;

and connecting back to 46°58.00' N. lat., 124°48.00' W. long.

The Westport Offshore YRCA is defined by straight lines connecting the following specific latitude and longitude coordinates in the order listed:

(1) 46°54.30' N. lat., 124°53.40' W. long.;

(2) 46°54.30' N. lat., 124°51.00' W. long.;

(3) 46°53.30' N. lat., 124°51.00' W. long.;

(4) 46°53.30' N. lat., 124°53.40' W. long.;

and connecting back to 46°54.30' N. lat., 124°53.40' W. long.

(d) The quota for landings into ports in the area between Leadbetter Point, WA (46° 38.17' N. lat.) and Cape Falcon, OR (45°46.00' N. lat.), is 12,445 lb (5.6 mt).

(i) The fishing season commences on May 1, and continues 3 days a week (Thursday, Friday and Saturday) until 8,712 lb (3.9 mt) are estimated to have been taken and the season is closed by the Commission or until July 18, whichever is earlier. The fishery will reopen on August 6 and continue 3 days a week (Friday through Sunday) until 3,734 lb (1.7 mt) have been taken and the season is closed by the Commission, or until September 30, whichever is earlier. Subsequent to this closure, if there is insufficient quota remaining in the Columbia River subarea for another fishing day, then any remaining quota may be transferred in-season to another Washington and/or Oregon subarea by NMFS via an update to the recreational halibut hotline. Any remaining quota would be transferred to each state in proportion to its contribution.

(ii) The daily bag limit is one halibut of any size per day per person.

(iii) Pacific Coast groundfish may not be taken and retained, possessed or landed, except sablefish and Pacific cod when allowed by Pacific Coast groundfish regulations, when halibut are on board the vessel.

(e) The quota for landings into ports in the area off Oregon between Cape Falcon (45°46.00' N. lat.) and Humbug Mountain (42°40.50' N. lat.), is 144,070 lb (65.3 mt).

(i) The fishing seasons are:

(A) The first season (the “inside 40-fm” fishery) commences May 1 and continues 7 days a week through October 31, in the area shoreward of a boundary line approximating the 40-fm (73-m) depth contour, or until the sub-quota for the central Oregon “inside 40-fm” fishery (11,526 lb(5.2 mt)) or any in-season revised subquota is estimated to have been taken and the season is closed by the Commission, whichever is earlier. The boundary line approximating the 40-fm (73-m) depth contour between 45°46.00' N. lat. and 42°40.50' N. lat. is defined by straight lines connecting all of the following points in the order stated:

(1) 45°46.00' N. lat., 124°04.49' W. long.;

(2) 45°44.34' N. lat., 124°05.09' W. long.;

(3) 45°40.64' N. lat., 124°04.90' W. long.;

(4) 45°33.00' N. lat., 124°04.46' W. long.;

(5) 45°32.27' N. lat., 124°04.74' W. long.;

(6) 45°29.26' N. lat., 124°04.22' W. long.;

(7) 45°20.25' N. lat., 124°04.67' W. long.;

(8) 45°19.99' N. lat., 124°04.62' W. long.;

(9) 45°17.50' N. lat., 124°04.91' W. long.;

(10) 45°11.29' N. lat., 124°05.20' W. long.;

(11) 45°05.80' N. lat., 124°05.40' W. long.;

(12) 45°05.08' N. lat., 124°05.93' W. long.;

(13) 45°03.83' N. lat., 124°06.47' W. long.;

(14) 45°01.70' N. lat., 124°06.53' W. long.;

(15) 44°58.75' N. lat., 124°07.14' W. long.;

(16) 44°51.28' N. lat., 124°10.21' W. long.;

(17) 44°49.49' N. lat., 124°10.90' W. long.;

(18) 44°44.96' N. lat., 124°14.39' W. long.;

(19) 44°43.44' N. lat., 124°14.78' W. long.;

(20) 44°42.27' N. lat., 124°13.81' W. long.;

(21) 44°41.68' N. lat., 124°15.38' W. long.;

(22) 44°34.87' N. lat., 124°15.80' W. long.;

(23) 44°33.74' N. lat., 124°14.44' W. long.;

(24) 44°27.66' N. lat., 124°16.99' W. long.;

(25) 44°19.13' N. lat., 124°19.22' W. long.;

(26) 44°15.35' N. lat., 124°17.38' W. long.;

(27) 44°14.38' N. lat., 124°17.78' W. long.;

(28) 44°12.80' N. lat., 124°17.18' W. long.;

(29) 44°09.23' N. lat., 124°15.96' W. long.;

(30) 44°08.38' N. lat., 124°16.79' W. long.;

(31) 44°08.30' N. lat., 124°16.75' W. long.;

(32) 44°01.18' N. lat., 124°15.42' W. long.;

(33) 43°51.61' N. lat., 124°14.68' W. long.;

(34) 43°42.66' N. lat., 124°15.46' W. long.;

(35) 43°40.49' N. lat., 124°15.74' W. long.;

(36) 43°38.77' N. lat., 124°15.64' W. long.;

(37) 43°34.52' N. lat., 124°16.73' W. long.;

(38) 43°28.82' N. lat., 124°19.52' W. long.;

(39) 43°23.91' N. lat., 124°24.28' W. long.;

(40) 43°20.83' N. lat., 124°26.63' W. long.;

(41) 43°17.96' N. lat., 124°28.81' W. long.;

(42) 43°16.75' N. lat., 124°28.42' W. long.;

(43) 43°13.97' N. lat., 124°31.99' W. long.;

(44) 43°13.72' N. lat., 124°33.25' W. long.;

(45) 43°12.26' N. lat., 124°34.16' W. long.;

(46) 43°10.96' N. lat., 124°32.33' W. long.;

(47) 43°05.65' N. lat., 124°31.52' W. long.;

(48) 42°59.66' N. lat., 124°32.58' W. long.;

(49) 42°54.97' N. lat., 124°36.99' W. long.;

(50) 42°53.81' N. lat., 124°38.57' W. long.;

(51) 42°50.00' N. lat., 124°39.68' W. long.;

(52) 42°49.13' N. lat., 124°39.70' W. long.;

(53) 42°46.47' N. lat., 124°38.89' W. long.;

(54) 42°45.74' N. lat., 124°38.86' W. long.;

(55) 42°44.79' N. lat., 124°37.96' W. long.;

(56) 42°45.01' N. lat., 124°36.39' W. long.;

(57) 42°44.14' N. lat., 124°35.17' W. long.;

(58) 42°42.14' N. lat., 124°32.82' W. long.; and

(59) 42°40.50' N. lat., 124°31.98' W. long.;

(B) The second season (spring season), which is for the “all-depth” fishery, is open on (insert dates beginning with May 1). The projected catch for this season is 99,408 lb (45 mt). If sufficient unharvested catch remains for additional fishing days, the season will re-open. Dependent on the amount of unharvested catch available, the potential season re-opening dates will be: (insert dates no later than July 31). If NMFS decides in-season to allow fishing on any of these re-opening dates, notice of the re-opening will be announced on the NMFS hotline (206) 526-6667 or (800) 662-9825. No halibut fishing will be allowed on the re-opening dates unless the date is announced on the NMFS hotline.

(C) If sufficient unharvested catch remains, the third season (summer season), which is for the “all-depth” fishery, will be open on (insert dates beginning with August 6) or until the combined spring season and summer season quotas in the area between Cape Falcon and Humbug Mountain, OR, totaling 33,136 lb (15 mt), are estimated to have been taken and the area is closed by the Commission, or October 31, whichever is earlier. NMFS will announce on the NMFS hotline in July whether the fishery will re-open for the summer season in August. No halibut fishing will be allowed in the summer season fishery unless the dates are announced on the NMFS hotline. Additional fishing days may be opened if sufficient quota remains after the last day of first scheduled open period (insert date following establishment of season dates). If after this date, greater than or equal to 60,000 lb (27.2 mt) remains in the combined all-depth and inside 40-fm (73-m) quota, the fishery may re-open every Friday and Saturday, beginning (insert dates of next possible open period as established preseason), and ending October 31. If after September 6, an amount greater than or equal to 30,000 lb (13.6 mt) remains in the combined all-depth and inside 40-fm (73-m) quota, and the fishery is not already open every Friday and Saturday, the fishery may re-open every Friday and Saturday, beginning September 10 and 11, and ending October 31. After September 10, the bag limit may be increased to two fish of any size per person, per day. NMFS will announce on the NMFS hotline whether the summer all-depth fishery will be open on such additional fishing days, what days the fishery will be open and what the bag limit is.

(ii) The daily bag limit is one halibut of any size per day per person, unless otherwise specified. NMFS will announce on the NMFS hotline any bag limit changes.

(iii) During days open to all-depth halibut fishing, no Pacific Coast groundfish may be taken and retained, possessed or landed, except sablefish and Pacific cod, when allowed by Pacific Coast groundfish regulations, if halibut are on board the vessel.

(iv) When the all-depth halibut fishery is closed and halibut fishing is permitted only shoreward of a boundary line approximating the 40-fm (73-m) depth contour, halibut possession and retention by vessels operating seaward of a boundary line approximating the 40-fm (73-m) depth contour is prohibited.

(v) Recreational fishing for groundfish and halibut is prohibited within the Stonewall Bank YRCA. It is unlawful for recreational fishing vessels to take and retain, possess, or land halibut taken with recreational gear within the Stonewall Bank YRCA. A vessel fishing in the Stonewall Bank YRCA may not be in possession of any halibut. Recreational vessels may transit through the Stonewall Bank YRCA with or without halibut on board. The Stonewall Bank YRCA is an area off central Oregon, near Stonewall Bank, intended to protect yelloweye rockfish. The Stonewall Bank YRCA is defined by straight lines connecting the following specific latitude and longitude coordinates in the order listed:

(1) 44°37.46 N. lat.; 124°24.92 W. long.;

(2) 44°37.46 N. lat.; 124°23.63 W. long.;

(3) 44°28.71 N. lat.; 124°21.80 W. long.;

(4) 44°28.71 N. lat.; 124°24.10 W. long.;

(5) 44°31.42 N. lat.; 124°25.47 W. long.;

and connecting back to 44°37.46 N. lat.; 124°24.92 W. long.

(f) The area south of Humbug Mountain, Oregon (42°40.50' N. lat.) and off the California coast is not managed in-season relative to its quota. This area is managed on a season that is projected to result in a catch of 4,698 lb (2.1 mt).

(i) The fishing season will commence on May 1 and continue 7 days a week until October 31.

(ii) The daily bag limit is one halibut of any size per day per person.

Classification

Regulations governing the U.S. fisheries for Pacific halibut are developed by the International Pacific Halibut Commission (IPHC), the Pacific Fishery Management Council, the North Pacific Fishery Management Council (Council), and the Secretary of Commerce. Section 5 of the Northern Pacific Halibut Act of 1982 (Halibut Act, 16 U.S.C. 773c) provides the Secretary of Commerce with the general responsibility to carry out the Convention between Canada and the United States for the management of Pacific halibut, including the authority to adopt regulations as may be necessary to carry out the purposes and objectives of the Convention and Halibut Act. This final rule is consistent with the Secretary of Commerce's authority under the Halibut Act.

This action has been determined to be not significant for purposes of Executive Order 12866.

NMFS has prepared an RIR/IRFA on the proposed changes to the Plan and annual domestic Area 2A halibut management measures. Copies of these documents are available from NMFS (see ADDRESSES). NMFS prepared an IRFA that describes the economic impact this proposed rule, if adopted, would have on small entities. A description of the action, why it is being considered, and the legal basis for this action are contained at the beginning of this section in the preamble and in the SUMMARY section of the preamble. The IRFA is available from NMFS (see ADDRESSES). A summary of the IRFA follows:

A fish-harvesting business is considered a “small” business by the Small Business Administration (SBA) if it has annual receipts not in excess of $4.0 million. For related fish-processing businesses, a small business is one that employs 500 or fewer persons. For wholesale businesses, a small business is one that employs not more than 100 people. For marinas and charter/party boats, a small business is one with annual receipts not in excess of $6.5 million. All of the businesses that would be affected by this action are considered small businesses under Small Business Administration guidance.

The proposed changes to the Plan, which allocates the catch of Pacific halibut among users in Washington, Oregon and California, would: (1)specify that the Washington South Coast Subarea primary season will be open Sunday and Tuesday through the third week in May, open on Sunday only for the fourth week in May and return to Sunday and Tuesday after the fourth week in May. Under the status-quo this fishery would be open on Sunday and Tuesday for the first two weeks of the fishery but would have then continued on Sundays only for the remainder of the season. The goal of this change to the Catch Sharing Plan is to provide more opportunity for this fishery and to balance weekday and weekend fishing; having the fishery open on Sunday only for the fourth week in May allows managers to tally the catch to assess the possibility of later openings; (2)specify that the Washington South Coast subarea nearshore area will be open seven days per week. Under the status-quo, this fishery was open three days per week during the primary season in addition to the days that the primary fishery was open, and was open four days per week after the primary season was closed. The goal of this change is to allow better access to the nearshore quota; (3) revise the northern and western boundaries of the Washington nearshore area. This will align the nearshore area with the boundary line approximating the 30-fm depth contour as specified in Federal regulations at 50 CFR 660.391. Under the status-quo a small section of the Washington nearshore area was outside of the 30-fm line. The goal of this change is to promote ease of compliance and enforcement. According to the fishermen in this area there are no “targetable” areas for halibut within the area that will be added to the nearshore area as a result of this change, so impacts to groundfish and halibut are not expected to increase; (4) specify that in the Washington South Coast subarea seaward of the 30-fm line, on days when the primary fishery is open, retention of lingcod is allowed. The State of Washington will prohibit further fishing seaward of the 30 fm line once the vessel reaches its daily bag limit of halibut. Under the status quo, Pacific Coast Groundfish regulations prohibit fishing for groundfish, including lingcod, in the recreational fishery seaward of the 30-fm line at certain times. The goal of this change is to provide lingcod retention opportunity for anglers who have previously had to discard lingcod while fishing seaward of the 30-fm line and who would then move shoreward to catch smaller lingcod or no lingcod; (5) Change the open days in the Oregon Central Coast subarea all depth fishery from three days per week to two days per week, Friday and Saturday. Under the status-quo this fishery was open Friday through Sunday. The goal of this change is to extend the season in this area, while not impacting the quota of the inside 40-fm fishery as happened in 2009.

As mentioned in the preamble, WDFW and ODFW held public meetings and crafted alternatives to adjust management of the sport halibut fisheries in their states. The states then narrowed the alternatives under consideration and brought the resulting subset of alternatives to the Council at the Council's September and November 2009 meetings. The range of alternatives that were rejected includes alternate fishery structures, such as opening the sport fisheries on different days of the week than the final preferred alternative. Generally, by the time the alternatives reach the Council, because they have been through the state public review process, there is not a large number of alternatives. Rather, the range of alternatives has generally been reduced to the proposed action and the status quo. However, the Council and the States still considered a range of alternatives that could have similarly improved angler enjoyment of participation in the fisheries while simultaneously protecting halibut and co-occurring groundfish species from overharvest.

In 2009, 510 vessels were issued IPHC licenses to retain halibut. IPHC issues licenses for: the directed commercial fishery in Area 2A, including licenses issued to retain halibut caught incidentally in the primary sablefish fishery (238 licenses in 2009); incidental halibut caught in the salmon troll fishery (132 licenses in 2009); and the charterboat fleet (140 licenses in 2009). No vessel may participate in more than one of these three fisheries per year. Individual recreational anglers and private boats are the only sectors that are not required to have an IPHC license to retain halibut.

Specific data on the economics of halibut charter operations is unavailable. However, in January 2004, the Pacific States Marine Fisheries Commission (PSMFC) completed a report on the overall West Coast charterboat fleet. In surveying charterboat vessels concerning their operations in 2000, the PSMFC estimated that there were about 315 charterboat vessels in operation off Washington and Oregon. In 2000, the IPHC licensed 130 vessels to fish in the halibut sport charter fishery. Comparing the total charterboat fleet to the 130 and 142 IPHC licenses in 2000 and 2007, respectively, approximately 41 to 45 percent of the charterboat fleet could participate in the halibut fishery. The PSMFC has developed preliminary estimates of the annual revenues earned by this fleet and they vary by size class of the vessels and home state. Small charterboat vessels range from 15 to 30 feet and typically carry 5 to 6 passengers. Medium charterboat vessels range from 31 to 49 feet in length and typically carry 19 to 20 passengers. (Neither state has large vessels of greater than 49 feet in their fleet.) Average annual revenues from all types of recreational fishing, whalewatching and other activities ranged from $7,000 for small Oregon vessels to $131,000 for medium Washington vessels. These data confirm that charterboat vessels qualify as small entities under the Regulatory Flexibility Act.

The proposed changes to the Plan and the proposed 2010 sport management measures are authorized under the Pacific Halibut Act, implementing regulations at 50 CFR 300.60 through 300.65, and the Pacific Council process of annually evaluating the utility and effectiveness of Area 2A Pacific halibut management under the Plan. The proposed sport management measures take into account the preliminary 2010 TAC and implement the Plan by managing the recreational fishery to meet the differing fishery needs of the various areas along the coast according to the Plan's objectives. The measures for 2010 will be very similar to last year's management measures. The changes to the Plan and domestic management measures are minor changes and are intended to help prolong the halibut season, provide increased recreational harvest opportunities, or clarify sport fishery management for fishermen and managers. There are no large entities involved in the halibut fisheries; therefore, none of these changes to the Plan and domestic management measures will have a disproportionate negative effect on small entities versus large entities.

These changes do not include any reporting or recordkeeping requirements. These changes will also not duplicate, overlap or conflict with other laws or regulations. These changes to the Plan and annual domestic Area 2A halibut management measures are not expected to meet any of the RFA tests of having a “significant” economic impact on a “substantial number” of small entities because the changes will not affect allocations rather they are designed to provide the best fishing opportunities within the overall TAC. Nonetheless, NMFS has prepared an IRFA. Through this proposed rule, NMFS is requesting comments on these conclusions.

Pursuant to Executive Order 13175, the Secretary recognizes the sovereign status and co-manager role of Indian tribes over shared Federal and tribal fishery resources. At section 302(b)(5), the Magnuson-Stevens Fishery Conservation and Management Act establishes a seat on the Pacific Council for a representative of an Indian tribe with federally recognized fishing rights from California, Oregon, Washington, or Idaho.

The U.S. Government formally recognizes that the 13 Washington Tribes have treaty rights to fish for Pacific halibut. In general terms, the quantification of those rights is 50 percent of the harvestable surplus of Pacific halibut available in the tribes' usual and accustomed (U and A) fishing areas (described at 50 CFR 300.64). Each of the treaty tribes has the discretion to administer their fisheries and to establish their own policies to achieve program objectives. Accordingly, tribal allocations and regulations, including the proposed changes to the Plan, have been developed in consultation with the affected tribe(s) and, insofar as possible, with tribal consensus.

List of Subjects in 50 CFR Part 300

Fisheries, Fishing, and Indian fisheries.

Dated: January 28, 2010.
Samuel D. Rauch III,
Deputy Assistant Administrator for Regulatory Programs, National Marine Fisheries Service.

For the reasons set out in the preamble, 50 CFR part 300 is proposed to be amended as follows:

PART 300—INTERNATIONAL FISHERIES REGULATIONS

1. The authority citation for part 300 continues to read as follows:

Authority: 16 U.S.C. 773 et seq.

2. In § 300.63, paragraphs (e),(f), and (g) are revised to read as follows:

§ 300.63 Catch sharing plan and domestic management measures in Area 2A.

(e) Area 2A Non-Treaty Commercial Fishery Closed Areas. Non-treaty commercial vessels operating in the directed commercial fishery for halibut in Area 2A are required to fish outside of a closed area, known as the Rockfish Conservation Area (RCA), that extends along the coast from the U.S./Canada border south to 40° 10' N. lat. Between the U.S./Canada border and 46° 16' N. lat., the eastern boundary of the RCA is the shoreline. Between 46° 16' N. lat. and 43° 00' N. lat, the RCA is defined along an eastern boundary by a line approximating the 30 fm (55-m) depth contour. Coordinates for the 30 fm (55 m) boundary are listed at § 300.63 (f). Between 43° 00' N. lat and 42° 00' N. lat., the RCA is defined along an eastern boundary by a line approximating the 20 fm (37-m) depth contour. Coordinates for the 20 fm (37 m) boundary are listed at § 660.391(b). Between 42° 00' N. lat. and 40° 10' N. lat., the RCA is defined along an eastern boundary by the 20 fm (37 m) depth contour. Between the U.S./Canada border and 40° 10' N. lat., the RCA is defined along a western boundary approximating the 100 fm (183 m) depth contour. Coordinates for the 100 fm (183 m) boundary are listed at § 300.63 (g).

(f) The 30 fm (55 m) depth contour between the U.S. border with Canada and 40 10.00' N. lat. is defined by straight lines connecting all of the following points in the order stated:

(1) 48° 24.79' N. lat., 124° 44.07' W. long.;

(2) 48° 24.80' N. lat., 124° 44.74' W. long.;

(3) 48° 23.94' N. lat., 124° 44.70' W. long.;

(4) 48° 23.51' N. lat., 124° 45.01' W. long.;

(5) 48° 22.59' N. lat., 124° 44.97' W. long.;

(6) 48° 21.75' N. lat., 124° 45.26' W. long.;

(7) 48° 21.23' N. lat., 124° 47.78' W. long.;

(8) 48° 20.32' N. lat., 124° 49.53' W. long.;

(9) 48° 16.72' N. lat., 124° 51.58' W. long.;

(10) 48°10.00' N. lat., 124°52.58' W. long.;

(11) 48°05.63' N. lat., 124°52.91' W. long.;

(12) 47°53.37' N. lat., 124°47.37' W. long.;

(13) 47°40.28' N. lat., 124°40.07' W. long.;

(14) 47°31.70' N. lat., 124°37.03' W. long.;

(15) 47°25.67' N. lat., 124°34.79' W. long.;

(16) 47°12.82' N. lat., 124°29.12' W. long.;

(17) 46°52.94' N. lat., 124°22.58' W. long.;

(18) 46°44.18' N. lat., 124°18.00' W. long.;

(19) 46°38.17' N. lat., 124°15.88' W. long.;

(20) 46°29.53' N. lat., 124°15.89' W. long.;

(21) 46°19.27' N. lat., 124°14.15' W. long.;

(22) 46°16.00' N. lat., 124°13.04' W. long.;

(23) 46°07.00' N. lat., 124°07.01' W. long.;

(24) 45°55.95' N. lat., 124°02.23' W. long.;

(25) 45°54.53' N. lat., 124°02.57' W. long.;

(26) 45°50.65' N. lat., 124°01.62' W. long.;

(27) 45°48.20' N. lat., 124°02.16' W. long.;

(28) 45°46.00' N. lat., 124°01.86' W. long.;

(29) 45°43.46' N. lat., 124°01.28' W. long.;

(30) 45°40.48' N. lat., 124°01.03' W. long.;

(31) 45°39.04' N. lat., 124°01.68' W. long.;

(32) 45°35.48' N. lat., 124°01.90' W. long.;

(33) 45°29.81' N. lat., 124°02.45' W. long.;

(34) 45°27.97' N. lat., 124°01.90' W. long.;

(35) 45°27.22' N. lat., 124°02.66' W. long.;

(36) 45°24.20' N. lat., 124°02.94' W. long.;

(37) 45°20.60' N. lat., 124°01.74' W. long.;

(38) 45°20.25' N. lat., 124°01.85' W. long.;

(39) 45°16.44' N. lat., 124°03.22' W. long.;

(40) 45°13.63' N. lat., 124°02.69' W. long.;

(41) 45°11.05' N. lat., 124°03.59' W. long.;

(42) 45°08.55' N. lat., 124°03.47' W. long.;

(43) 45°03.82' N. lat., 124°04.43' W. long.;

(44) 45°02.81' N. lat., 124°04.64' W. long.;

(45) 44°58.06' N. lat., 124°05.03' W. long.;

(46) 44°53.97' N. lat., 124°06.92' W. long.;

(47) 44°48.89' N. lat., 124°07.04' W. long.;

(48) 44°46.94' N. lat., 124°08.25' W. long.;

(49) 44°42.72' N. lat., 124°08.98' W. long.;

(50) 44°38.16' N. lat., 124°11.48' W. long.;

(51) 44°33.38' N. lat., 124°11.54' W. long.;

(52) 44°28.51' N. lat., 124°12.04' W. long.;

(53) 44°27.65' N. lat., 124°12.56' W. long.;

(54) 44°19.67' N. lat., 124°12.37' W. long.;

(55) 44°10.79' N. lat., 124°12.22' W. long.;

(56) 44°09.22' N. lat., 124°12.28' W. long.;

(57) 44°08.30' N. lat., 124°12.30' W. long.;

(58) 44°00.22' N. lat., 124°12.80' W. long.;

(59) 43°51.56' N. lat., 124°13.18' W. long.;

(60) 43°44.26' N. lat., 124°14.50' W. long.;

(61) 43°33.82' N. lat., 124°16.28' W. long.;

(62) 43°28.66' N. lat., 124°18.72' W. long.;

(63) 43°23.12' N. lat., 124°24.04' W. long.;

(64) 43°20.83' N. lat., 124°25.67' W. long.;

(65) 43°20.48' N. lat., 124°25.90' W. long.;

(66) 43°16.41' N. lat., 124°27.52' W. long.;

(67) 43°14.23' N. lat., 124°29.28' W. long.;

(68) 43°14.03' N. lat., 124°28.31' W. long.;

(69) 43°11.92' N. lat., 124°28.26' W. long.;

(70) 43°11.02' N. lat., 124°29.11' W. long.;

(71) 43°10.13' N. lat., 124°29.15' W. long.;

(72) 43°09.26' N. lat., 124°31.03' W. long.;

(73) 43°07.73' N. lat., 124°30.92' W. long.;

(74) 43°05.93' N. lat., 124°29.64' W. long.;

(75) 43°01.59' N. lat., 124°30.64' W. long.;

(76) 42°59.72' N. lat., 124°31.16' W. long.;

(77) 42°53.75' N. lat., 124°36.09' W. long.;

(78) 42°50.00' N. lat., 124°36.41' W. long.;

(79) 42°50.00' N. lat., 124°38.39' W. long.;

(80) 42°49.37' N. lat., 124°38.81' W. long.;

(81) 42°46.42' N. lat., 124°37.69' W. long.;

(82) 42°46.07' N. lat., 124°38.56' W. long.;

(83) 42°45.29' N. lat., 124°37.95' W. long.;

(84) 42°45.61' N. lat., 124°36.87' W. long.;

(85) 42°44.27' N. lat., 124°33.64' W. long.;

(86) 42°42.75' N. lat., 124°31.84' W. long.;

(87) 42°40.50' N. lat., 124°29.67' W. long.;

(88) 42°40.04' N. lat., 124°29.20' W. long.;

(89) 42°38.09' N. lat., 124°28.39' W. long.;

(90) 42°36.73' N. lat., 124°27.54' W. long.;

(91) 42°36.56' N. lat., 124°28.40' W. long.;

(92) 42°35.77' N. lat., 124°28.79' W. long.;

(93) 42°34.03' N. lat., 124°29.98' W. long.;

(94) 42°34.19' N. lat., 124°30.58' W. long.;

(95) 42°31.27' N. lat., 124°32.24' W. long.;

(96) 42°27.07' N. lat., 124°32.53' W. long.;

(97) 42°24.21' N. lat., 124°31.23' W. long.;

(98) 42°20.47' N. lat., 124°28.87' W. long.;

(99) 42°14.60' N. lat., 124°26.80' W. long.;

(100) 42°13.67' N. lat., 124°26.25' W. long.;

(101) 42°10.90' N. lat., 124°24.56' W. long.;

(102) 42°07.04' N. lat., 124°23.35' W. long.;

(103) 42°02.16' N. lat., 124°22.59' W. long.;

(104) 42°00.00' N. lat., 124°21.81' W. long.;

(105) 41°55.75' N. lat., 124°20.72' W. long.;

(106) 41°50.93' N. lat., 124°23.76' W. long.;

(107) 41°42.53' N. lat., 124°16.47' W. long.;

(108) 41°37.20' N. lat., 124°17.05' W. long.;

(109) 41°24.58' N. lat., 124°10.51' W. long.;

(110) 41°20.73' N. lat., 124°11.73' W. long.;

(111) 41°17.59' N. lat., 124°10.66' W. long.;

(112) 41°04.54' N. lat., 124°14.47' W. long.;

(113) 40°54.26' N. lat., 124°13.90' W. long.;

(114) 40°40.31' N. lat., 124°26.24' W. long.;

(115) 40°34.00' N. lat., 124°27.39' W. long.;

(116) 40°30.00' N. lat., 124°31.32' W. long.;

(117) 40°28.89' N. lat., 124°32.43' W. long.;

(118) 40°24.77' N. lat., 124°29.51' W. long.;

(119) 40°22.47' N. lat., 124°24.12' W. long.;

(120) 40°19.73' N. lat., 124°23.59' W. long.;

(121) 40°18.64' N. lat., 124°21.89' W. long.;

(122) 40°17.67' N. lat., 124°23.07' W. long.;

(123) 40°15.58' N. lat., 124°23.61' W. long.;

(124) 40°13.42' N. lat., 124°22.94' W. long.;

(125) 40°10.00' N. lat., 124°16.65' W. long.

(g) The 100 fm (183 m) depth contour used between the U.S. border with Canada and 40°10.00' N. lat. is defined by straight lines connecting all of the following points in the order stated:

(1) 48°15.00' N. lat., 125°41.00' W. long.;

(2) 48°14.00' N. lat., 125°36.00' W. long.;

(3) 48°09.50' N. lat., 125°40.50' W. long.;

(4) 48°08.00' N. lat., 125°38.00' W. long.;

(5) 48°05.00' N. lat., 125°37.25' W. long.;

(6) 48°02.60' N. lat., 125°34.70' W. long.;

(7) 47°59.00' N. lat., 125°34.00' W. long.;

(8) 47°57.26' N. lat., 125°29.82' W. long.;

(9) 47°59.87' N. lat., 125°25.81' W. long.;

(10) 48°01.80' N. lat., 125°24.53' W. long.;

(11) 48°02.08' N. lat., 125°22.98' W. long.;

(12) 48°02.97' N. lat., 125°22.89' W. long.;

(13) 48°04.47' N. lat., 125°21.75' W. long.;

(14) 48°06.11' N. lat., 125°19.33' W. long.;

(15) 48°07.95' N. lat., 125°18.55' W. long.;

(16) 48°09.00' N. lat., 125°18.00' W. long.;

(17) 48°11.31' N. lat., 125°17.55' W. long.;

(18) 48°14.60' N. lat., 125°13.46' W. long.;

(19) 48°16.67' N. lat., 125°14.34' W. long.;

(20) 48°18.73' N. lat., 125°14.41' W. long.;

(21) 48°19.67' N. lat., 125°13.70' W. long.;

(22) 48°19.70' N. lat., 125°11.13' W. long.;

(23) 48°22.95' N. lat., 125°10.79' W. long.;

(24) 48°21.61' N. lat., 125°02.54' W. long.;

(25) 48°23.00' N. lat., 124°49.34' W. long.;

(26) 48°17.00' N. lat., 124°56.50' W. long.;

(27) 48°06.00' N. lat., 125°00.00' W. long.;

(28) 48°04.62' N. lat., 125°01.73' W. long.;

(29) 48°04.84' N. lat., 125°04.03' W. long.;

(30) 48°06.41' N. lat., 125°06.51' W. long.;

(31) 48°06.00' N. lat., 125°08.00' W. long.;

(32) 48°07.08' N. lat., 125°09.34' W. long.;

(33) 48°07.28' N. lat., 125°11.14' W. long.;

(34) 48°03.45' N. lat., 125°16.66' W. long.;

(35) 48°02.35' N. lat., 125°17.30' W. long.;

(36) 48°02.35' N. lat., 125°18.07' W. long.;

(37) 48°00.00' N. lat., 125°19.30' W. long.;

(38) 47°59.50' N. lat., 125°18.88' W. long.;

(39) 47°58.68' N. lat., 125°16.19' W. long.;

(40) 47°56.62' N. lat., 125°13.50' W. long.;

(41) 47°53.71' N. lat., 125°11.96' W. long.;

(42) 47°51.70' N. lat., 125°09.38' W. long.;

(43) 47°49.95' N. lat., 125°06.07' W. long.;

(44) 47°49.00' N. lat., 125°03.00' W. long.;

(45) 47°46.95' N. lat., 125°04.00' W. long.;

(46) 47°46.58' N. lat., 125°03.15' W. long.;

(47) 47°44.07' N. lat., 125°04.28' W. long.;

(48) 47°43.32' N. lat., 125°04.41' W. long.;

(49) 47°40.95' N. lat., 125°04.14' W. long.;

(50) 47°39.58' N. lat., 125°04.97' W. long.;

(51) 47°36.23' N. lat., 125°02.77' W. long.;

(52) 47°34.28' N. lat., 124°58.66' W. long.;

(53) 47°32.17' N. lat., 124°57.77' W. long.;

(54) 47°30.27' N. lat., 124°56.16' W. long.;

(55) 47°30.60' N. lat., 124°54.80' W. long.;

(56) 47°29.26' N. lat., 124°52.21' W. long.;

(57) 47°28.21' N. lat., 124°50.65' W. long.;

(58) 47°27.38' N. lat., 124°49.34' W. long.;

(59) 47°25.61' N. lat., 124°48.26' W. long.;

(60) 47°23.54' N. lat., 124°46.42' W. long.;

(61) 47°20.64' N. lat., 124°45.91' W. long.;

(62) 47°17.99' N. lat., 124°45.59' W. long.;

(63) 47°18.20' N. lat., 124°49.12' W. long.;

(64) 47°15.01' N. lat., 124°51.09' W. long.;

(65) 47°12.61' N. lat., 124°54.89' W. long.;

(66) 47°08.22' N. lat., 124°56.53' W. long.;

(67) 47°08.50' N. lat., 124°57.74' W. long.;

(68) 47°01.92' N. lat., 124°54.95' W. long.;

(69) 47°01.08' N. lat., 124°59.22' W. long.;

(70) 46°58.48' N. lat., 124°57.81' W. long.;

(71) 46°56.79' N. lat., 124°56.03' W. long.;

(72) 46°58.01' N. lat., 124°55.09' W. long.;

(73) 46°55.07' N. lat., 124°54.14' W. long.;

(74) 46°59.60' N. lat., 124°49.79' W. long.;

(75) 46°58.72' N. lat., 124°48.78' W. long.;

(76) 46°54.45' N. lat., 124°48.36' W. long.;

(77) 46°53.99' N. lat., 124°49.95' W. long.;

(78) 46°54.38' N. lat., 124°52.73' W. long.;

(79) 46°52.38' N. lat., 124°52.02' W. long.;

(80) 46°48.93' N. lat., 124°49.17' W. long.;

(81) 46°41.50' N. lat., 124°43.00' W. long.;

(82) 46°34.50' N. lat., 124°28.50' W. long.;

(83) 46°29.00' N. lat., 124°30.00' W. long.;

(84) 46°20.00' N. lat., 124°36.50' W. long.;

(85) 46°18.40' N. lat., 124°37.70' W. long.;

(86) 46°18.03' N. lat., 124°35.46' W. long.;

(87) 46°17.00' N. lat., 124°22.50' W. long.;

(88) 46°16.00' N. lat., 124°20.62' W. long.;

(89) 46°13.52' N. lat., 124°25.49' W. long.;

(90) 46°12.17' N. lat., 124°30.74' W. long.;

(91) 46°10.63' N. lat., 124°37.96' W. long.;

(92) 46°09.29' N. lat., 124°39.01' W. long.;

(93) 46°02.40' N. lat., 124°40.37' W. long.;

(94) 45°56.45' N. lat., 124°38.00' W. long.;

(95) 45°51.92' N. lat., 124°38.50' W. long.;

(96) 45°47.20' N. lat., 124°35.58' W. long.;

(97) 45°46.40' N. lat., 124°32.36' W. long.;

(98) 45°46.00' N. lat., 124°32.10' W. long.;

(99) 45°41.75' N. lat., 124°28.12' W. long.;

(100) 45°36.95' N. lat., 124°24.47' W. long.;

(101) 45°31.84' N. lat., 124°22.04' W. long.;

(102) 45°27.10' N. lat., 124°21.74' W. long.;

(103) 45°20.25' N. lat., 124°18.54' W. long.;

(104) 45°18.14' N. lat., 124°17.59' W. long.;

(105) 45°11.08' N. lat., 124°16.97' W. long.;

(106) 45°04.39' N. lat., 124°18.35' W. long.;

(107) 45°03.83' N. lat., 124°18.60' W. long.;

(108) 44°58.05' N. lat., 124°21.58' W. long.;

(109) 44°47.67' N. lat., 124°31.41' W. long.;

(110) 44°44.54' N. lat., 124°33.58' W. long.;

(111) 44°39.88' N. lat., 124°35.00' W. long.;

(112) 44°32.90' N. lat., 124°36.81' W. long.;

(113) 44°30.34' N. lat., 124°38.56' W. long.;

(114) 44°30.04' N. lat., 124°42.31' W. long.;

(115) 44°26.84' N. lat., 124°44.91' W. long.;

(116) 44°17.99' N. lat., 124°51.04' W. long.;

(117) 44°12.92' N. lat., 124°56.28' W. long.;

(118) 44°00.14' N. lat., 124°55.25' W. long.;

(119) 43°57.68' N. lat., 124°55.48' W. long.;

(120) 43°56.66' N. lat., 124°55.45' W. long.;

(121) 43°56.47' N. lat., 124°34.61' W. long.;

(122) 43°42.73' N. lat., 124°32.41' W. long.;

(123) 43°30.92' N. lat., 124°34.43' W. long.;

(124) 43°20.83' N. lat., 124°39.39' W. long.;

(125) 43°17.45' N. lat., 124°41.16' W. long.;

(126) 43°07.04' N. lat., 124°41.25' W. long.;

(127) 43°03.45' N. lat., 124°44.36' W. long.;

(128) 43°03.91' N. lat., 124°50.81' W. long.;

(129) 42°55.70' N. lat., 124°52.79' W. long.;

(130) 42°54.12' N. lat., 124°47.36' W. long.;

(131) 42°50.00' N. lat., 124°45.33' W. long.;

(132) 42°44.00' N. lat., 124°42.38' W. long.;

(133) 42°40.50' N. lat., 124°41.71' W. long.;

(134) 42°38.23' N. lat., 124°41.25' W. long.;

(135) 42°33.02' N. lat., 124°42.38' W. long.;

(136) 42°31.90' N. lat., 124°42.04' W. long.;

(137) 42°30.08' N. lat., 124°42.67' W. long.;

(138) 42°28.28' N. lat., 124°47.08' W. long.;

(139) 42°25.22' N. lat., 124°43.51' W. long.;

(140) 42°19.23' N. lat., 124°37.91' W. long.;

(141) 42°16.29' N. lat., 124°36.11' W. long.;

(142) 42°13.67' N. lat., 124°35.81' W. long.;

(143) 42°05.66' N. lat., 124°34.92' W. long.;

(144) 42°00.00' N. lat., 124°35.27' W. long.;

(145) 41°47.04' N. lat., 124°27.64' W. long.;

(146) 41°32.92' N. lat., 124°28.79' W. long.;

(147) 41°24.17' N. lat., 124°28.46' W. long.;

(148) 41°10.12' N. lat., 124°20.50' W. long.;

(149) 40°51.41' N. lat., 124°24.38' W. long.;

(150) 40°43.71' N. lat., 124°29.89' W. long.;

(151) 40°40.14' N. lat., 124°30.90' W. long.;

(152) 40°37.35' N. lat., 124°29.05' W. long.;

(153) 40°34.76' N. lat., 124°29.82' W. long.;

(154) 40°36.78' N. lat., 124°37.06' W. long.;

(155) 40°32.44' N. lat., 124°39.58' W. long.;

(156) 40°30.00' N. lat., 124°38.13' W. long.;

(157) 40°24.82' N. lat., 124°35.12' W. long.;

(158) 40°23.30' N. lat., 124°31.60' W. long.;

(159) 40°23.52' N. lat., 124°28.78' W. long.;

(160) 40°22.43' N. lat., 124°25.00' W. long.;

(161) 40°21.72' N. lat., 124°24.94' W. long.;

(162) 40°21.87' N. lat., 124°27.96' W. long.;

(163) 40°21.40' N. lat., 124°28.74' W. long.;

(164) 40°19.68' N. lat., 124°28.49' W. long.;

(165) 40°17.73' N. lat., 124°25.43' W. long.;

(166) 40°18.37' N. lat., 124°23.35' W. long.;

(167) 40°15.75' N. lat., 124°26.05' W. long.;

(168) 40°16.75' N. lat., 124°33.71' W. long.;

(169) 40°16.29' N. lat., 124°34.36' W. long.;

(170) 40°10.00' N. lat., 124°21.12' W. long.;

[FR Doc. 2010-2413 Filed 2-3-10; 8:45 am]

BILLING CODE 3510-22-S